DEPARTMENT OF HEALTH AND HUMAN SERVICES

National Institutes of Health

Center for Scientific Review; Amended Notice of Meeting

Notice is hereby given of a change in the meeting of the Macromolecular Structure and Function B Study Section, October 6, 2008, 8 a.m. to October 7, 2008, 6 p.m., Melrose Hotel, 2430 Pennsylvania Avenue, NW., Washington, DC, 20037 which was published in the Federal Register on August 21, 2008, 73 FR 49465-49467.

The meeting will be held one day only October 6, 2008. The meeting time and location remain the same. The meeting is closed to the public.

Dated: August 27, 2008.
Jennifer Spaeth,
Director, Office of Federal Advisory Committee Policy.

[FR Doc. E8-20434 Filed 9-3-08; 8:45 am]

BILLING CODE 4140-01-M